CORPORATION FOR NATIONAL AND COMMUNITY SERVICE

Sunshine Act Notice

The Corporation for National and Community Service and the President's Council on Service and Civic Participation gives notice of the following meeting:

Date and Time: Tuesday, March 2, 2004, 2:30 p.m.-4:30 p.m.

PLACE: Corporation for National and Community Service, 1201 New York Avenue, NW., 8th Floor, Room 8410, Washington, DC 20525.

STATUS: Open.

MATTERS TO BE CONSIDERED:

I. Chair's Opening Remarks

II. CEO Report

III. Executive Director Report

IV. Panel Discussion

V. Public Comment

ACCOMMODATIONS: Anyone who needs an interpreter or other accommodation should notify the Corporation's contact person by 5 p.m. Thursday, February 26, 2004.

CONTACT PERSON FOR MORE INFORMATION: David Premo, Public Affairs Associate, Public Affairs, Corporation for National and Community Service, 8th Floor, Room 8612C, 1201 New York Avenue, NW., Washington, DC 20525. Phone (202) 606-5000 ext. 278. Fax (202) 565-2784. TDD: (202) 565-2799. E-mail: dpremo@cns.gov.

Dated: February 18, 2004.
Frank R. Trinity,
General Counsel.

[FR Doc. 04-3940 Filed 2-19-04; 11:56 am]

BILLING CODE 6050-$$-P